FEDERAL COMMUNICATIONS COMMISSION

Sunshine Act Meeting; Deletion of Agenda Items From April 7, 2011, Open Meeting

April 6, 2011.

The following items have been deleted from the list of Agenda items scheduled for consideration at the Thursday, April 7, 2011, Open Meeting and previously listed in the Commission's Notice of March 31, 2011. These items have been adopted by the Commission.

Item No. | Bureau | Subject
5 | WIRELESS TELE-COMMUNICATIONS | TITLE: Amending Parts 1, 2, 22, 24, 27, 90 and 95 of the Commission's Rules to Improve Wireless Coverage Through the Use of Signal Boosters. SUMMARY: The Commission will consider a Notice of Proposed Rulemaking that will help to fill gaps in wireless coverage and expand broadband in rural and difficult-to serve areas, while protecting wireless networks from harm.
6 | CONSUMER & GOVERNMENTAL AFFAIRS | TITLE: Structure and Practices of the Video Relay Service Program (CG Docket No. 10-51). SUMMARY: The Commission will consider a Report and Order that will adopt rules to detect and prevent fraud and abuse in the provision of video relay service (“VRS”). Also, a Further Notice of Proposed Rulemaking Proposes to require all VRS providers to obtain certification from the FCC under new, tighter certification procedures in order to receive compensation from the TRS Fund.

Federal Communications Commission.
Marlene H. Dortch,
Secretary.

[FR Doc. 2011-9030 Filed 4-11-11; 11:15 am]

BILLING CODE 6712-01-P